FEDERAL COMMUNICATIONS COMMISSION

47 CFR Part 1

[MD Docket No. 21-190; MD Docket No. 22-223; FCC 22-39; FR ID 91190]

Assessment and Collection of Regulatory Fees for Fiscal Year 2022

AGENCY: Federal Communications Commission.

ACTION: Notification of amendment.

SUMMARY: The Federal Communications Commission released a Report and Order and Notice of Proposed Rulemaking in June 2022. The Commission has corrected that document.

DATES: June 21, 2022.

ADDRESSES: The June document is available at https://www.fcc.gov/document/fy-2022-regulatory-fees-notice-proposed-rulemaking. To request materials in accessible formats for people with disabilities, email FCC504@fcc.gov or call the Consumer & Governmental Affairs Bureau at (202) 418-0530 (voice), (202) 418-0432 (TTY).

FOR FURTHER INFORMATION CONTACT: Roland Helvajian, Office of Managing Director at (202) 418-0444.

SUPPLEMENTARY INFORMATION: On June 2, 2022, the Federal Communications Commission released a Report and Order and Notice of Proposed Rulemaking (Report and Order), FCC 22-39, in the above captioned proceeding. The Report and Order has not been published in the Federal Register and is available at https://www.fcc.gov/document/fy-2022-regulatory-fees-notice-proposed-rulemaking. To request materials in accessible formats for people with disabilities, email FCC504@fcc.gov or call the Consumer & Governmental Affairs Bureau at (202) 418-0530 (voice), (202) 418-0432 (TTY). The Commission corrects the date “August 31, 2022” in paragraph 72 of the Ordering Clause to read “September 1, 2022.”

Federal Communications Commission.
Marlene Dortch,
Secretary.

[FR Doc. 2022-12812 Filed 6-17-22; 8:45 am]

BILLING CODE 6712-01-P